DEPARTMENT OF STATE

[Public Notice: 9639]

Notice of Receipt of Application for a Presidential Permit for the Pembina-Emerson Land Port of Entry Expansion Project on the U.S.-Canada Border at Pembina, North Dakota, and Emerson, Manitoba, Canada

SUMMARY: The Department of State hereby gives notice that, on May 24, 2016, it received an application for a Presidential Permit to expand the Pembina-Emerson Land Port of Entry (LPOE) on the U.S.-Canada Border at Pembina, North Dakota, and Emerson, Manitoba, Canada. The North Dakota Department of Transportation filed this application. The Department of State's jurisdiction over this application is based upon Executive Order 11423 of August 16, 1968, as amended. As provided in E.O. 11423, the Department is circulating this application to relevant federal agencies for review and comment. Under E.O. 11423, the Department has the responsibility to determine, taking into account input from these agencies and other stakeholders, whether issuance of a Presidential Permit for the proposed expansion of this border crossing would serve the national interest. Interested members of the public are invited to submit written comments regarding this application on or before October 31, 2016, to the U.S.-Canada Border Affairs Officer, via email at CanadaPresidentialPermits@state.gov or by mail at WHA/CAN—Room 3918, Department of State, 2201 C St. NW., Washington, DC 20520.

FOR FURTHER INFORMATION CONTACT: Contact the Canada Border Affairs Officer via email at CanadaPresidentialPermits@state.gov, by phone at 202 647-2170, or by mail at Office of Canadian Affairs—Room 3918, Department of State, 2201 C St. NW., Washington, DC 20520. Information about Presidential permits is available on the Internet at http://www.state.gov/p/wha/rt/permit/.

SUPPLEMENTARY INFORMATION: The application and supporting documents are available for review at http://www.state.gov/p/wha/rt/permit/canada/index.htm.

Dated: July 14, 2016.
Keith Gilges,
Acting Deputy Director, WHA/CAN, Department of State.

[FR Doc. 2016-17152 Filed 7-19-16; 8:45 am]

BILLING CODE 4710-29-P